DEPARTMENT OF TRANSPORTATION

National Highway Traffic Safety Administration

49 CFR Parts 571 and 585

[Docket No. NHTSA-2011-0004]

RIN 2127-AK23

Federal Motor Vehicle Safety Standards, Ejection Mitigation; Phase-In Reporting Requirements; Incorporation by Reference

Correction

In rule document 2011-547, appearing on pages 3212-3305 of the issue of Wednesday, January 19, 2011, make the following change:

§ 571.226 [Corrected]

On page 3301, in the first column, above the paragraph headed “S8.4 Vehicles manufactured on or after September 1, 2015 and before September 1, 2016.”, insert the following text:

§ 571.226 [Corrected]

* * * * *

S8.3 Vehicles manufactured on or after September 1, 2014 and before September 1, 2015. Subject to S8.9, for vehicles manufactured on or after September 1, 2014 and before September 1, 2015, the number of vehicles complying with S4.2 shall be not less than 50 percent of:

(a) The manufacturer's average annual production of vehicles manufactured in the three previous production years; or

(b) The manufacturer's production in the current production year.

* * * * *

[FR Doc. C1-2011-547 Filed 2-24-11; 8:45 am]

BILLING CODE 1505-01-D